DEPARTMENT OF THE INTERIOR

Fish and Wildlife Service

50 CFR Part 17

[Docket No. FWS-R8-ES-2024-0207; FXES1111090FEDR-267-FF09E21000]

RIN 1018-BI16

Endangered and Threatened Wildlife and Plants; Endangered Species Status for Fish Lake Valley Tui Chub

AGENCY: Fish and Wildlife Service, Interior.

ACTION: Proposed rule; reopening of comment period and announcement of public hearing.

SUMMARY: We, the U.S. Fish and Wildlife Service (Service), are reopening the comment period on our May 21, 2025, proposed rule to list the Fish Lake Valley tui chub (Siphateles obesus ssp.), a fish found in Esmeralda County in southwestern Nevada, as an endangered species under the Endangered Species Act of 1973, as amended (Act). We are taking this action to conduct a public hearing and to allow all interested parties an additional opportunity to comment on the proposed rule. Comments previously submitted on the proposed rule need not be resubmitted and will be fully considered in our development of the final rule.

DATES:

Comment submission: The public comment period on the proposed rule that published May 21, 2025, at 90 FR 21720, is reopened. We will accept comments received on or before March 6, 2026. Comments submitted electronically using the Federal eRulemaking Portal (see ADDRESSES, below) must be received by 11:59 p.m. eastern time on the closing date, and comments submitted by U.S. mail must be received by that date to ensure consideration.

Public hearing: On February 19, 2026, we will hold a public hearing on the proposed rule to list the Fish Lake Valley tui chub as an endangered species under the Act from 5 p.m. to 7 p.m. Pacific time, using the Zoom platform (for more information, see Public Hearing, below).

ADDRESSES:

Comment submission: You may submit comments by one of the following methods:

(1) Electronically: Go to the Federal eRulemaking Portal: https://www.regulations.gov. In the Search box, enter FWS-R8-ES-2024-0207, which is the docket number for this rulemaking. Then, click on the Search button. On the resulting page, in the panel on the left side of the screen, under the Document Type heading, check the Proposed Rule box to locate this document. You may submit a comment by clicking on “Comment.”

(2) By hard copy: Submit by U.S. mail to: Public Comments Processing, Attn: FWS-R8-ES-2024-0207, U.S. Fish and Wildlife Service, MS: PRB/3W, 5275 Leesburg Pike, Falls Church, VA 22041-3803.

(3) Verbally at public hearing: Interested parties may present verbal testimony (formal, oral comments) at the public hearing, which will be held virtually using the Zoom platform. See Public Hearing, below, for more information.

We request that you send comments only by the methods described above. We will post all comments on https://www.regulations.gov. This generally means that we will post any personal information you provide us (see Public Comments, below, for more information).

Document availability: The May 21, 2025, proposed rule and its supporting documents, including the species status assessment report, are available at https://www.regulations.gov at Docket No. FWS-R8-ES-2024-0207.

FOR FURTHER INFORMATION CONTACT: Kristen Jule, Field Supervisor, U.S. Fish and Wildlife Service, Reno Fish and Wildlife Office; 775-861-6337; rfwomail@fws.gov. Individuals in the United States who are deaf, deafblind, hard of hearing, or have a speech disability may dial 711 (TTY, TDD, or TeleBraille) to access telecommunications relay services. Individuals outside the United States should use the relay services offered within their country to make international calls to the point-of-contact in the United States. Please see Docket No. FWS-R8-ES-2024-0207 on https://www.regulations.gov for a document that summarizes the May 21, 2025, proposed rule.

SUPPLEMENTARY INFORMATION:

Background

On May 21, 2025, we published a proposed rule (90 FR 21720) to list the Fish Lake Valley tui chub as an endangered species under the Act (16 U.S.C. 1531 et seq.). The proposed rule opened a 60-day public comment period, ending on July 21, 2025. During the open comment period, we received a request for a public hearing on the proposed rule. Therefore, we are reopening the comment period on the proposal and announcing a public hearing (see DATES, above) to allow the public an additional opportunity to provide comments on the proposed rule to list the Fish Lake Valley tui chub.

For a description of previous Federal actions concerning the Fish Lake Valley tui chub and more information on the types of comments that would be helpful to us in promulgating this rulemaking action, please refer to the May 21, 2025, proposed rule (90 FR 21720).

Public Hearing

We are holding a public hearing to accept comments on our May 21, 2025, proposed rule (90 FR 21720) on the date and at the time listed above in DATES. We are holding the public hearing via the Zoom online video platform and via teleconference so that participants can attend remotely. For security purposes, registration is required. All participants must register in order to listen and view the hearing via Zoom, listen to the hearing by telephone, or provide oral public comments at the hearing by Zoom or telephone. For information on how to register, or if you encounter technical problems joining Zoom on the day of the hearing, visit https://www.fws.gov/event/virtual-public-hearing-proposed-listing-fish-lake-valley-tui-chub.

Registrants will receive the Zoom link and the telephone number for the public hearing. If applicable, interested members of the public not familiar with the Zoom platform should view the Zoom video tutorials (https://support.zoom.us/hc/en-us/articles/206618765-Zoom-video-tutorials) prior to the public hearing.

The public hearing will provide interested parties an opportunity to present verbal testimony (formal, oral comments) regarding the May 21, 2025, proposed rule to list the Fish Lake Valley tui chub as an endangered species (90 FR 21720). The public hearing will not be an opportunity for dialogue with the Service but rather a forum for accepting formal verbal testimony. In the event there is a large attendance, the time allotted for oral statements may be limited. Therefore, anyone wishing to make an oral statement at the public hearing for the record is encouraged to provide a prepared written copy of their statement to us through the Federal eRulemaking Portal or U.S. mail (see ADDRESSES, above). There are no limits on the length of written comments submitted to us. Anyone wishing to make an oral statement at the public hearing must register at https://www.fws.gov/event/virtual-public-hearing-proposed-listing-fish-lake-valley-tui-chub before the hearing. The use of a virtual public hearing is consistent with our regulations at 50 CFR 424.16(c)(3).

Reasonable Accommodation

The Service is committed to providing access to the public hearing for all participants. Closed captioning will be available during the public hearing. Further, a full audio and video recording and transcript of the public hearing will be posted online at https://www.fws.gov/event/virtual-public-hearing-proposed-listing-fish-lake-valley-tui-chub and at https://www.regulations.gov after the hearing. Participants will also have access to live audio during the public hearing via their telephone or computer speakers. Persons with disabilities requiring reasonable accommodations to participate in the hearing should contact the person listed under FOR FURTHER INFORMATION CONTACT at least 5 business days prior to the date of the hearing (see DATES, above) to help ensure availability. See https://www.fws.gov/event/virtual-public-hearing-proposed-listing-fish-lake-valley-tui-chub for more information about reasonable accommodation.

Public Comments

If you already submitted comments or information on the May 21, 2025, proposed rule (90 FR 21720), please do not resubmit them. Any such comments are incorporated as part of the public record of the rulemaking proceeding, and we will fully consider them in preparation for our final determination.

Comments should be as specific as possible. Please include supplemental information with your submission (such as scientific journal articles or other publications) to allow us to verify any scientific or commercial information you include. Please note that submissions merely stating support for, or opposition to, the action under consideration without providing supporting information, although noted, do not provide substantial information necessary to support a determination. Section 4(b)(1)(A) of the Act directs that determinations as to whether any species is an endangered or a threatened species must be made solely on the basis of the best scientific and commercial data available.

You may submit your comments and materials by one of the methods listed in ADDRESSES. We request that you send comments only by the methods described in ADDRESSES.

If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing the May 21, 2025, proposed rule (90 FR 21720), will be available for public inspection on https://www.regulations.gov.

Our final determination may differ from the May 21, 2025, proposed rule (90 FR 21720) because we will consider all comments we receive during the comment period as well as any information that may become available after the proposed rule published. Based on the new information we receive (and, if relevant, any comments on that new information), we may conclude that the species is threatened instead of endangered, or we may conclude that the species does not warrant listing as either an endangered species or a threatened species. In our final rule, we will clearly explain our rationale and the basis for our final decision, including why we made changes, if any, that differ from the May 21, 2025, proposed rule (90 FR 21720).

Authority

The authority for this action is the Endangered Species Act of 1973, as amended (16 U.S.C. 1531 et seq.).

Brian R. Nesvik,
Director, U.S. Fish and Wildlife Service.

[FR Doc. 2026-02251 Filed 2-3-26; 8:45 am]

BILLING CODE 4333-15-P